DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5:00 p.m. in Suite 4100W, U.S. Department of Commerce, Franklin Court Building, 1099 14th Street, NW, Washington, DC.

Docket Number: 02-013.

Applicant: University of Saskatchewan, 110 Science Place, Saskatoon, SK, Canada, S7N 5C9.

Instrument: Photoelectron Emission Microscope, Model PEEM III.

Manufacturer: ELMITEC GmbH, Germany.

Intended Use: The instrument is intended to be used to study the spatially resolved x-ray absorption spectra for the chemical analysis of complex organic, polymer and environmental materials. Principle experiments to be conducted are: (1) Investigation of protein binding on patterned organic surfaces, (2) tribology—investigation of the anti-wear properties of thin films on metal surfaces, and (3) exploration of the circular dichroism spectroscopy of chiral materials at x-ray wavelengths. The instrument will also be used in the courses CHEM 994 and CHEM 996.

Application accepted by Commissioner of Customs: April 26, 2002.

Docket Number: 02-014.

Applicant: National Renewable Energy Laboratory (NREL), 1617 Cole Boulevard, Golden, CO 80401.

Instrument: Electron Microscope, Model Tecnai G² F20 U-TWIN STEM.

Manufacturer: FEI Company, The Netherlands.

Intended Use: The instrument is intended to be used to study the structure and physical chemistry of semiconductors used in photovoltaics (solar cells). The goal of the investigations is to better understand the structural and chemical properties and relate them to the optical and electrical performance of thin film devices. In addition, the instrument will also be used to characterize a variety of nano-structured materials such as single walled carbon nano-tubes used for the development of hydrogen fuel cells.

Application accepted by Commissioner of Customs: April 26, 2002.

Docket Number: 02-015.

Applicant: The Regents of the University of California (Riverside Campus), Materiel Management—056, Riverside, CA 92521-0411.

Instrument: Electron Microscope, Model Tecnai 12 TWIN.

Manufacturer: FEI Company, The Netherlands.

Intended Use: The instrument is intended to be used in the following research programs: (1) Development and evolution of nematode roundworms, (2) development of nerve function in mammals, (3) developmental processes related to plant reproduction, (4) reproductive processes in mice, and (5) the structure, function and processes of cell membranes in various animals. The instrument will also be used for educational purposes in the courses: (1) Bio/Nem 159, (2) MCLB/Biol 121L, (3) Bio 200A, PP 200, (4) Ent 231, (5) Neuro 211, and (6) Nem 226.

Application accepted by Commissioner of Customs: April 26, 2002.

Docket Number: 02-016.

Applicant: Associated Universities, Inc., National Radio Astronomy Observatory (AUI/NRAO), 520 Edgemont Road, Charlottesville, VA 22903.

Instrument: Atacama Large Millimeter Array (ALMA) Radio Telescope.

Manufacturer: Vertex Antennentechnik GmbH, Germany.

Intended Use: The instrument is intended to serve as a test and evaluation instrument. The results of the evaluation will be used to finalize the design basis for the entire array of radio telescopes which will be located in Chile. The antennas of the Atacama Large Millimeter Array will collect millimeter and submillimeter waves from the cosmos and direct them through a series of mirrors into the cooled detectors. The purpose of the array is to collect the waves in such a fashion as to create an image of their source, cool gas and dust in the Universe. From these images the mechanisms of creation of planets stars and galaxies may be hypothesized and studied by astronomers and students.

Application accepted by Commissioner of Customs: May 3, 2002.

Gerald A. Zerdy,
Program Manager, Statutory Import Programs Staff.

[FR Doc. 02-12863 Filed 5-21-02; 8:45 am]

BILLING CODE 3510-DS-P